DEPARTMENT OF ENERGY

Federal Energy Regulatory Commission

[Project No. 405-106]

Exelon Generation Company, LLC; Notice of Application Tendered for Filing With the Commission and Establishing Deadline for Submission of Final Amendments

Take notice that the following hydroelectric application has been filed with the Commission and is available for public inspection.

a. Type of Application: New Major License.

b. Project No.: 405-106.

c. Date Filed: August 31, 2012.

d. Applicant: Exelon Generation Company, LLC.

e. Name of Project: Conowingo Hydroelectric Project.

f. Location: On the Susquehanna River, in Harford and Cecil Counties, Maryland and Lancaster and York Counties, Pennsylvania. The project does not occupy any federal lands.

g. Filed Pursuant to: Federal Power Act, 16 U.S.C. 791 (a)-825(r).

h. Applicant Contact: Colleen Hicks, Manager, Regulatory and Licensing, Hydro, Exelon Power, 300 Exelon Way, Kennett Square, PA 19348, at (610) 765-6791 or email at Colleen.Hicks@exeloncorp.com and Kathleen Barròn, Vice President, Federal Regulatory Affairs and Wholesale Market Policy, Exelon Corporation, 101 Constitution Avenue, Washington, DC 20001, at (202) 347-7500 or email at Kathleen.Barron2@exeloncorp.com.

i. FERC Contact: Emily Carter, (202) 502-6512 or emily.carter@ferc.gov.

j. This application is not ready for environmental analysis at this time.

k. The Project Description: The Conowingo Project consists of a concrete gravity dam with a maximum height of approximately 94 feet. The dam consists of a 1,225-foot-long non-overflow gravity section, a 2,385-foot-long ogee shaped spillway section, a 950-foot-long intake-powerhouse section, and a 100-foot-long non-overflow gravity section. The spillway consists of a 2,250-foot-long section with a crest elevation of 86.0 feet, and a 135-foot-long section with a crest elevation of 98.5 feet. The spillway is fitted with 50 Stoney-type crest gates and two regulating gates. Each Stoney crest gate is 22.5 feet high by 38 feet wide and has a discharge capacity of 16,000 cubic feet per second (cfs) at a reservoir elevation of 109.2 feet. The two regulating gates are 10 feet high by 38 feet wide and have a discharge capacity of 4,000 cfs per gate at a reservoir elevation of 109.2 feet.

Conowingo dam impounds the Susquehanna River, forming Conowingo reservoir (Conowingo pond) that extends 14 miles upstream from the dam. Total storage in the 9,000-acre reservoir is approximately 310,000 acre-feet, and total useable storage is about 71,000 acre-feet at the normal full pool elevation of 109.2 feet. The elevation of the normal river surface below the dam is approximately 20.5 feet. The impoundment provides approximately 89 feet of gross head for power generation purposes.

The power plant is integral with the dam and is composed of 13 turbine-generator units, draft tubes, and transformer bays. The first seven turbine-generating units (1-7) are completely enclosed within the powerhouse, and the last four units (8-11) are located outside. The hydraulic equipment for units 1-7 consists of Francis-type single runner hydraulic turbines. The hydraulic equipment for units 8-11 consists of four mixed-flow Kaplan-type hydraulic turbines. Units 1, 3, 4, 6 and 7 have 47.7-MW generators; Units 2 and 5 have 36.0-MW generators; and Units 8-11 have 65.6-MW generators. Additionally, two house turbines provide station service and “black-start” capability with each unit having a 1.6-MW generator. Water flowing through the turbines is discharged via the draft tubes into the tailrace immediately downstream of the dam.

Electricity generated at the project is transmitted by two individual 220-kilovolt (kV) transmission lines extending from the project substation to East Nottingham.

The Conowingo Project has an authorized nameplate generating capacity of 573 MW and generates an average of 1,836,125 MWh annually. Exelon is not proposing any new or upgraded facilities or structural changes to the project at this time. Also, Exelon has engaged interested stakeholders to participate in the development of a comprehensive settlement agreement based on collaborative negotiation of specific terms and conditions for the new Conowingo license.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/docs-filing/esubscription.asp to be notified via email of new filings and issuances related to this or other pending projects. For assistance, contact FERC Online Support.

n. Procedural Schedule: A preliminary Hydro Licensing Schedule will be provided in a subsequent notice.

o. Final amendments to the application must be filed with the Commission no later than 30 days from the issuance date of the notice of ready for environmental analysis.

Dated: September 13, 2012.
Kimberly D. Bose,
Secretary.

[FR Doc. 2012-23224 Filed 9-19-12; 8:45 am]

BILLING CODE 6717-01-P